DEPARTMENT OF HEALTH AND HUMAN SERVICES (HHS)

Administration on Aging

[Program Announcement No. AoA-01-01]

Fiscal Year 2001 Program Announcement; Availability of Funds and Notice Regarding Applications

AGENCY: Administration on Aging, HHS.

ACTION: Announcement of availability of funds and request for applications in seven states—Kansas, Kentucky, New Jersey, North Dakota, Tennessee, Vermont, and West Virginia—to carry out cooperative agreement awards to train retired persons to serve in their communities as volunteer expert resources and educators in combating health care waste, fraud, and abuse.

SUMMARY: The Administration on Aging (AoA) announces that under this program announcement it will hold a competition for “Senior Medicare Patrol Projects” that demonstrate effective ways of utilizing retired persons as volunteer expert resources and educators in community efforts to combat waste, fraud and abuse in the Medicare and Medicaid programs. The deadline date for the submission of applications is March 23, 2001. Public and/or nonprofit agencies, organizations, and institutions in Kansas, Kentucky, New Jersey, North Dakota, Tennessee, Vermont, and West Virginia are eligible to apply under this program announcement. The AoA is currently funding “Senior Medicare Patrol Projects” in the remaining forty-three states, plus the District of Columbia and Puerto Rico. No further awards will be made in these states.

Application kits are available by writing to the Department of Health and Human Services, Administration on Aging, Office of Governmental Affairs and Elder Rights, 330 Independence Avenue, SW., Room 4749, Washington, DC 20201, telephone: (202) 619-3775 or (202) 619-1351.

Dated: January 19, 2001.
Jeanette C. Takamura,
Assistant Secretary for Aging.

[FR Doc. 01-2218 Filed 1-24-01; 8:45 am]

BILLING CODE 4154-01-P